DEPARTMENT OF DEFENSE

Department of the Navy

Meeting of the Board of Advisors to the Superintendent, Naval Postgraduate School

AGENCY: Department of the Navy, DoD.

ACTION: Notice of open meeting.

SUMMARY: The purpose of this meeting is to elicit the advice of the board on the Naval Service's Postgraduate Education Program. The board examines the effectiveness with which the Naval Postgraduate School is accomplishing its mission. To this end, the board will inquire into the curricula, instruction, physical equipment, administration, state of morale of the student body, faculty, and staff; fiscal affairs; and any other matters relating to the operation of the Naval Postgraduate School, as the board considers pertinent. This meeting will be open to the public.

DATES: The meeting will be held on Monday, March 5, 2001, from 9:00 a.m. to 4:00 p.m. and on Tuesday, March 6, 2001, from 9:00 a.m. to 12:00 p.m.

ADDRESSES: The meeting will be held at the National Defense University, Fort McNair, Hill Conference Room, Roosevelt Hall, Washington, DC.

FOR FURTHER INFORMATION CONTACT: Mrs. Jaye Panza, Naval Postgraduate School, 1 University Circle, Monterey, California 93943-5000, telephone number (831) 656-2514.

Dated: February 14, 2001.
J.L. Roth,
Lieutenant Commander, Judge Advocate General's Corp, U.S. Navy, Federal Register Liaison Officer.

[FR Doc. 01-4567 Filed 2-23-01; 8:45 am]

BILLING CODE 3810-FF-U